FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 5, 2006.

A. Federal Reserve Bank of Cleveland (Douglas A. Banks, Vice President) 1455 East Sixth Street, Cleveland, Ohio 44101-2566:

1. Union Bank and Trust Company, and Thomas Milton Hasse, both of Lincoln, Nebraska, as trustees of the Barbara Dunlap Yaltaghian Trust; to acquire voting shares of New Richmond Bancorporation, and thereby indirectly acquire voting shares of New Richmond National Bank, both of New Richmond, Ohio.

Board of Governors of the Federal Reserve System, August 15, 2006.
Robert deV. Frierson,
Deputy Secretary of the Board.

[FR Doc. E6-13655 Filed 8-17-06; 8:45 am]

BILLING CODE 6210-01-S